DEPARTMENT OF THE INTERIOR

National Park Service

[NPS-AKRO-CAKR-19169;PPAKAKROR4; PPMPRLE1Y.LS0000]

Amended Meeting Notice for the National Park Service Subsistence Resource Commission for the Cape Krusenstern National Monument

AGENCY: National Park Service, Interior.

ACTION: Amended meeting notice.

SUMMARY: In accordance with the Federal Advisory Committee Act (16 U.S.C. Appendix 1-16), notice is hereby given of a change in the meeting schedule of the Cape Krusenstern National Monument Subsistence Resource Commission (SRC), July 22, 2015, meeting to September 17-18, 2015, at the Northwest Arctic Heritage Center in Kozebue, Alaska which was published in the Federal Register, Vol. 80, July 6, 2015, pp. 38461-38462. The SRC will meet on Thursday, September 17, 2015, from 1:00 p.m. to 5:00 p.m. or until business is completed on Friday, September 18, 2015. Teleconference participants must call the Cape Krusenstern National Monument office at (907) 442-3890 by Wednesday, September 16, 2015, prior to the meeting to receive teleconference passcode information.

FOR FURTHER INFORMATION CONTACT: For more detailed information regarding this meeting or if you are interested in applying for SRC membership contact Designated Federal Official Frank Hays, Superintendent, at (907) 442-3890, or via email at frank_hays@nps.gov, or Clarence Summers, Subsistence Manager, at (907) 644-3603 or via email at clarence_summers@nps.gov.

Dated: September 2, 2015.
Alma Ripps,
Chief, Office of Policy.

[FR Doc. 2015-22559 Filed 9-4-15; 8:45 am]

BILLING CODE 4310-EE-P